DEPARTMENT OF HEALTH AND HUMAN SERVICES

National Biodefense Science Board Public Teleconference

AGENCY: Office of the Assistant Secretary for Preparedness and Response (ASPR), Department of Health and Human Services (HHS).

ACTION: Notice.

SUMMARY: The National Biodefense Science Board (NBSB) provides expert advice and guidance on scientific, technical, and other matters of special interest to the Department regarding current and future chemical, biological, nuclear, and radiological agents, whether naturally occurring, accidental, or deliberate.

DATES: The May 26, 2021, public teleconference will include a general discussion of strategic priorities for public health and medical preparedness and a possible vote on recommendations. A more detailed agenda will be available on the NBSB meeting website https://www.phe.gov/nbsb.

ADDRESSES: Members of the public may attend the meeting via a toll-free call-in phone number or Web-ex enabled teleconference, which will be posted on https://www.phe.gov/nbsb. Members of the public may provide written comments for consideration by the NBSB at any time via email to NBSB@hhs.gov. If such comments are specific to the agenda for the current meeting, please use “NBSB Public Comment for 05/26/2021 in the subject line. Members of the public are encouraged to provide additional comments after the meeting as well.

FOR FURTHER INFORMATION CONTACT: CAPT Christopher L. Perdue, MD, MPH, Executive Director, National Advisory Committees; NBSB Designated Federal Officer, Washington, DC, Office NBSB@hhs.gov, (202) 401-5837.

SUPPLEMENTARY INFORMATION: The National Biodefense Science Board (NBSB) is authorized under Section 319M of the Public PHS Act, as added by Section 402 of the Pandemic and All-Hazards Preparedness Act of 2006 and amended by Section 404 of the Pandemic and All-Hazards Preparedness Reauthorization Act. The Board is governed by the Federal Advisory Committee Act (5 U.S.C. App.), which sets forth standards for the formation and use of advisory committees.

Nikki Bratcher-Bowman,
Acting Assistant Secretary for Preparedness and Response.

[FR Doc. 2021-08951 Filed 4-28-21; 8:45 am]

BILLING CODE 4150-37-P